DEPARTMENT OF TRANSPORTATION

Federal Aviation Administration

14 CFR Part 39

[Docket No. 2003-CE-30-AD; Amendment 39-13277; AD 2003-17-03]

RIN 2120-AA64

Airworthiness Directives; Piaggio Aero Industries S.p.A. Model P-180 Airplanes

AGENCY: Federal Aviation Administration, DOT.

ACTION: Final rule; request for comments.

SUMMARY: This document supersedes Airworthiness Directive (AD) 2003-03-14, which applies to all PIAGGIO AERO INDUSTRIES S.p.A. (PIAGGIO) Model P-180 airplanes. AD 2003-03-14 currently requires you to inspect and determine whether any firewall shutoff or crossfeed valve with a serial number in a certain range is installed and requires you to replace or modify any valve that has a serial number within this range. The modification consisted of reworked valves that were re-identified with an “A” at the end of the serial number. AD 2003-03-14 allows the pilot to check the logbook and does not require the inspection and replacement requirement if the check shows that one of these valves is definitely not installed. Since AD 2003-03-14 became effective, the Federal Aviation Administration (FAA) has found that the valve manufacturer was not correctly incorporating the modification on reworked valves. Consequently, the installation of modified fuel valves installed per AD 2003-03-14 could allow the unsafe condition to remain on the affected airplanes. This AD would require you to replace any firewall shutoff or crossfeed valve with a serial number in a certain range even if it has been modified per AD 2003-03-14. The actions specified by this AD are intended to prevent a faulty firewall shutoff or crossfeed valve from developing cracks and leaking fuel. This could result in an engine fire.

DATES: This AD becomes effective on September 3, 2003.

The Director of the Federal Register approved the incorporation by reference of certain publications listed in the regulation as of September 3, 2003.

The Federal Aviation Administration (FAA) must receive any comments on this rule on or before September 17, 2003.

ADDRESSES: Submit comments to FAA, Central Region, Office of the Regional Counsel, Attention: Rules Docket No. 2003-CE-30-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-30-AD” in the subject line. If you send comments electronically as attached electronic files, the files must be formatted in Microsoft Word 97 for Windows or ASCII text.

You may get the service information referenced in this AD from PIAGGIO AERO INDUSTRIES S.p.A, Via Cibrario 4, 16154 Genoa, Italy; telephone: +39 010 6481 856; facsimile: +39 010 6481 374. You may view this information at FAA, Central Region, Office of the Regional Counsel, Attention: Rules Docket No. 2003-CE-30-AD, 901 Locust, Room 506, Kansas City, Missouri 64106; or at the Office of the Federal Register, 800 North Capitol Street, NW., suite 700, Washington, DC.

FOR FURTHER INFORMATION CONTACT: S.M. Nagarajan, Aerospace Engineer, FAA, Small Airplane Directorate, 901 Locust, Room 301, Kansas City, Missouri 64106; telephone: (816) 329-4145; facsimile: (816) 329-4090.

SUPPLEMENTARY INFORMATION:

Discussion

Has FAA taken any action to this point? A ground fire on the left-hand engine nacelle caused by a cracked crossfeed valve that had leaked fuel on a PIAGGIO Model P-180 airplane caused FAA to issue AD 2003-03-14, Amendment 39-13038 (68 FR 5815, February 5, 2003).

AD 2003-03-14 currently requires you to inspect and determine whether any firewall shutoff or crossfeed valve with a serial number in a certain range is installed and requires you to replace or modify any valve that has a serial number within this range. The modification consisted of reworked valves that were re-identified with an “A” at the end of the serial number. This AD allows the pilot to check the logbook and does not require the inspection and replacement requirement if the check shows that one of these valves is definitely not installed.

What has happened since AD 2003-03-14 to initiate this proposed action? The Ente Nazionale per l' Aviazione Civile (ENAC), which is the airworthiness authority for Italy, recently notified FAA of the need to change AD 2003-03-14. The ENAC reports that the valve manufacturer was not correctly incorporating the modification on reworked valves and that these modified valves need to be replaced.

Is there service information that applies to this subject? PIAGGIO has issued Service Bulletin No. ASB80-0191, dated February 27, 2003. Included as part of this service bulletin is Electromech Technologies SB 484-3 AB, dated February 18, 2003.

What are the provisions of this service information? The service information includes:

—A list of those Electromech part number (P/N) fuel valves that are affected by the unsafe condition;

—Procedures for determining whether one of the affected fuel valves is installed; and

—Instructions for replacing or modifying any affected fuel valve.

What action did the ENAC take? The ENAC classified this service bulletin as mandatory and issued Italian RAI-AD 2003-119, dated April 3, 2003, in order to ensure the continued airworthiness of these airplanes in Italy.

Was this in accordance with the bilateral airworthiness agreement? This airplane model is manufactured in Italy and is type certificated for operation in the United States under the provisions of section 21.29 of the Federal Aviation Regulations (14 CFR 21.29) and the applicable bilateral airworthiness agreement.

Pursuant to this bilateral airworthiness agreement, the ENAC has kept FAA informed of the situation described above.

The FAA's Determination and an Explanation of the Provisions of This AD

What has FAA decided? The FAA has examined the findings of the ENAC; reviewed all available information, including the service information referenced above; and determined that:

—The unsafe condition referenced in this document exists or could develop on other PIAGGIO Model P-180 airplanes of the same type design that are on the U.S. registry;

—The fuel valves modified per AD 2003-03-14 should also be replaced;

—The actions specified in the previously-referenced service information should be accomplished on the affected airplanes; and

—AD action should be taken in order to correct this unsafe condition.

What does this AD require? This AD supersedes AD 2003-03-14 with a new AD that requires you to replace any firewall shutoff or crossfeed valve with a serial number in a certain range even if it has been modified per AD 2003-03-14.

How does the revision to 14 CFR part 39 affect this AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Will I have the opportunity to comment prior to the issuance of the rule? Because the unsafe condition described in this document could result in an engine fire, we find that notice and opportunity for public prior comment are impracticable. Therefore, good cause exists for making this amendment effective in less than 30 days.

Comments Invited

How do I comment on this AD? Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of this AD action and determining whether we need to take additional rulemaking action.

Are there any specific portions of this AD I should pay attention to? We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How can I be sure FAA receives my comment? If you want us to acknowledge the receipt of your comments, you must include a self-addressed, stamped postcard. On the postcard, write “Comments to Docket No. 2003-CE-30-AD.” We will date stamp and mail the postcard back to you.

Compliance Time of This AD

Why is the compliance time presented in calendar time instead of hours time-in-service (TIS)? The compliance of this AD is presented in calendar time instead of hours TIS because the affected shutoff and crossfeed valves are unsafe as a result of a quality control problem. The problem has the same chance of existing on an airplane with 50 hours TIS as it would for an airplane with 1,000 hours TIS. Therefore, FAA has determined that the compliance time of this AD should be presented in calendar time.

Regulatory Impact

Does this AD impact various entities? These regulations will not have a substantial direct effect on the States, on the relationship between the national Government and the States, or on the distribution of power and responsibilities among the various levels of government. Therefore, FAA has determined that this final rule does not have federalism implications under Executive Order 13132.

Does this AD involve a significant rule or regulatory action? We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2003-03-14, Amendment 39-13038 (68 FR 5815, February 5, 2003), and by adding a new AD to read as follows:

2003-17-03 Piaggio Aero Industries S.p.A.: Amendment 39-13277; Docket No. 2003-CE-30-AD; Supersedes AD 2003-03-14, Amendment 39-13038.

(a) What airplanes are affected by this AD? This AD affects Model P-180 airplanes, all serial numbers, that are certificated in any category.

(b) Who must comply with this AD? Anyone who wishes to operate any of the airplanes identified in paragraph (a) of this AD must comply with this AD.

(c) What problem does this AD address? The actions specified by this AD are intended to prevent a faulty firewall shutoff or crossfeed valve from developing cracks and leaking fuel. This could result in an engine fire.

(d) What actions must I accomplish to address this problem? To address this problem, you must accomplish the following:

Actions | Compliance | Procedures
(1) Maintenance Records Check: (i) Check the maintenance records to determine whether an Electro Mech part number (P/N) EM484-3 firewall shutoff or crossfeed valve with a serial number in the range of 148 through 302 (with or without an “A” at the end of the serial number) is installed. The owner/operator holding at least a private pilot certificate as authorized by section 43.7 of the Federal Aviation Regulations (14 CFR 43.7) may perform this check | Within 5 days after September 3, 2003 (the effective date of this AD), unless already accomplished | No special procedures necessary to check the logbook.
(ii) If, by checking the maintenance records, the owner/operator can definitely show that no Electro Mech P/N EM484-3 firewall shutoff or crossfeed valves with a serial number in the range of 148 through 302 (with or without an “A” at the end of the serial number) are installed, then the inspection requirement of paragraph (d)(2) of this AD and the replacement requirement of paragraph (d)(3) of this AD do not apply. You must make an entry into the aircraft records that shows compliance with these portions of the AD in accordance with section 43.9 of the Federal Aviation Regulations (14 CFR 43.9) |  |
(2) Inspection: Inspect the three Electro Mech P/N EM484-3 firewall shutoff and crossfeed valves to determine whether they incorporate a serial number in the range of 148 through 302 (with or without an “A” at the end of the serial number) | Within 5 days after September 3, 2003 (the effective date of this AD), unless already accomplished | In accordance with PIAGGIO Aero Industries S.p.A. Service Bulletin No. ASB80-0191, dated February 27, 2003; and Electromech Technologies SB 484-3 AB, dated February 18, 2003.
(3) Replacement/Modification: If any Electro Mech P/N EM484-3 firewall shutoff or crossfeed valve is found that incorporates a serial number in the range of 148 through 302 (with or without an “A” at the end of the serial number), accomplish one of the following: | Accomplish any necessary replacements or modifications prior to further flight after the inspection required by paragraph (d)(2) of this AD, unless already accomplished | Replace in accordance with the applicable maintenance manual. Modify in accordance with PIAGGIO Aero Industries S.p.A. Service Bulletin No. ASB80-0191, dated February 27, 2003; and Electromech Technologies SB 484-3 AB, dated February 18, 2003.
(i) Install valve(s) that does not (do not) incorporate a serial number in the range of 148 through 302 (with or without an “A” at the end of the serial number); or
(ii) Have any valve(s) modified that incorporates (incorporate) a serial number in the range of 148 through 302 (with or without an “A” at the end of the serial number). The valve will be re-identified with a “B” at the end of the serial number
(4) Valves Modified per AD 2003-03-14: Any valve modified per AD 2003-03-14 and re-identified with an “A” at the end of the serial number must be replaced or modified per paragraph (d)(3)(i) or (d)(3)(ii) of this AD, respectively | Within 5 days after September 3, 2003 (the effective date of this AD), unless already accomplished | In accordance with PIAGGIO Aero Industries S.p.A. Service Bulletin No. ASB80-0191, dated February 27, 2003; and Electromech Technologies SB 484-3 AB, dated February 18, 2003.
(5) Spares: Do not install, on any airplane, any Electro Mech P/N EM484-3 firewall shutoff or crossfeed valve that incorporates a serial number in the range of 148 through 302 (with or without an “A” at the end of the serial number), unless it has been modified as specified in paragraph (d)(3)(ii) of this AD | As of September 3, 2003 (the effective date of this AD) | Not applicable.

(e) Can I comply with this AD in any other way?

(1) To use an alternative method of compliance or adjust the compliance time, follow the procedures in 14 CFR 39.13. Send these requests to the Manager, Standards Office, Small Airplane Directorate. For information on any already approved alternative methods of compliance, contact S.M. Nagarajan, Aerospace Engineer, FAA, Small Airplane Directorate, 901 Locust, Room 301, Kansas City, Missouri 64106; telephone: (816) 329-4145; facsimile: (816) 329-4090.

(2) Alternative methods of compliance approved in accordance with AD 2003-03-14, which is superseded by this AD, are not approved as alternative methods of compliance with this AD.

(f) Are any service bulletins incorporated into this AD by reference? Actions required by this AD must be done in accordance with PIAGGIO Aero Industries S.p.A. Service Bulletin No. ASB80-0191, dated February 27, 2003; and Electromech Technologies SB 484-3 AB, dated February 18, 2003. The Director of the Federal Register approved this incorporation by reference under 5 U.S.C. 552(a) and 1 CFR part 51. You can get copies from PIAGGIO AERO INDUSTRIES S.p.A, Via Cibrario 4, 16154 Genoa, Italy; telephone: +39 010 6481 856; facsimile: +39 010 6481 374. You may view this information at FAA, Central Region, Office of the Regional Counsel, 901 Locust, Room 506, Kansas City, Missouri, or at the Office of the Federal Register, 800 North Capitol Street, NW., suite 700, Washington, DC.

(g) Does this AD action affect any existing AD actions? This amendment supersedes AD 2003-03-14, Amendment 39-13038.

Note: The subject of this AD is addressed in Italian RAI-AD 2003-119, dated April 3, 2003.

(h) This AD becomes effective on September 3, 2003.

Issued in Kansas City, Missouri, on August 12, 2003.
Diane K. Malone,
Acting Manager, Small Airplane Directorate, Aircraft Certification Service.

[FR Doc. 03-20963 Filed 8-21-03; 8:45 am]

BILLING CODE 4910-13-P